JUDICIAL CONFERENCE OF THE UNITED STATES

Meeting of the Judicial Conference Committee on Rules of Practice and Procedure

AGENCY: Judicial Conference of the United States, Committee on Rules of Practice and Procedure.

ACTION: Notice of open meeting.

SUMMARY: The Committee on Rules of Practice and Procedure will hold a two-day meeting. The meeting will be open to public observation but not participation.

DATES: January 16-17, 2003.

TIME: 8:30 a.m. to 5 p.m.

ADDRESSES: Royal Palms Hotel and Casitas, 5200 East Camelback Road, Phoenix, Arizona.

FOR FURTHER INFORMATION CONTACT: John K. Rabiej, Chief, Rules Committee Support Office, Administrative Office of the United States Courts, Washington, DC 20544, telephone (202) 502-1820.

Dated: July 12, 2002.
John K. Rabiej,
Chief, Rules Committee Support Office.

[FR Doc. 02-18317 Filed 7-18-02; 8:45 am]

BILLING CODE 2210-SS-M